INTERNATIONAL TRADE COMMISSION

[Investigation Nos. 701-TA-249 and 731-TA-262, 263, and 265 (Second Review)]

Certain Iron Construction Castings From Brazil, Canada, and China

Determinations

On the basis of the record¹ developed in the subject five-year review, the United States International Trade Commission (Commission) determines, pursuant to section 751(c) of the Tariff Act of 1930 (19 U.S.C. 1675(c)) (the Act), that revocation of the countervailing duty order on heavy iron construction castings from Brazil would be likely to lead to continuation or recurrence of material injury to an industry in the United States within a reasonably foreseeable time. The Commission also determines that renovation of the antidumping duty order on heavy iron construction castings from Canada would be likely to lead to continuation or recurrence of material injury to an industry in the United States within a reasonably foreseeable time. The Commission further determines that revocation of the antidumping duty orders on iron construction castings (both heavy and light) from Brazil and China would be likely to lead to continuation or recurrence of material injury to an industry in the United States within a reasonably foreseeable time.

¹ The record is defined in sec. 207.2(f) of the Commission's Rules of Practice and Procedure (19 CFR 207.2(f)).

Background

The Commission instituted these reviews on October 1, 2004 (69 FR 58952) and determined on January 4, 2005 that it would conduct expedited reviews (70 FR 7967).

The Commission transmitted its determinations in these reviews to the Secretary of Commerce on June 7, 2005. The views of the Commission are contained in USITIC Publication 3781 (June, 2005), entitled Certain Iron Construction Castings from Brazil, Canada, and China: Investigation Nos. 701-TA-249 and 731-TA-262, 263, and 265 (Second Review).

By order of the Commission.
Dated: Issued: June 8, 2005.
Marilyn R. Abbott,
Secretary to the Commission.

[FR Doc. 05-11715 Filed 6-13-05; 8:45 am]

BILLING CODE 7020-02-M